DEPARTMENT OF HEALTH AND HUMAN SERVICES

National Institutes of Health

National Institute of Diabetes and Digestive and Kidney Diseases; Amended Notice of Meeting

Notice is hereby given of a change in the meeting of the National Institute of Diabetes and Digestive and Kidney Diseases Special Emphasis Panel, March 31, 2006, 3 p.m. to March 31, 2006, 4 p.m., National Institutes of Health, Two Democracy Plaza, 6707 Democracy Boulevard, Bethesda, MD 20892 which is published in the Federal Register on March 14, 2006, 71 FR 13131.

This meeting has been changed to April 3, 2006, from 5 p.m. to 6 p.m. The location remains the same. The meeting is closed to the public.

Dated: March 16, 2006.
Anna Snouffer,
Acting Director, Office of Federal Advisory Committee Policy.

[FR Doc. 06-2819 Filed 3-22-06; 8:45 am]

BILLING CODE 4140-01-M